DEPARTMENT OF ENERGY

Federal Energy Regulatory Commission

[Docket No. RP01-214-000]

Northwest Pipeline Corporation; Notice of Proposed Changes in FERC Gas Tariff

February 1, 2001.

Take notice that on January 26, 2001, Northwest Pipeline Corporation (Northwest) tendered for filing as part of its FERC Gas Tariff, Third Revised Volume No. 1, the following tariff sheets, to be effective February 26, 2001.

Second Revised Sheet No. 254

Third Revised Sheet No. 255

Third Revised Sheet No. 256

Northwest states that the purpose of this filing is to propose changes to Northwest's tariff provisions related to facilities reimbursement procedures associated with the construction of laterals.

Northwest states that a copy of this filing has been served upon Northwest's customers and interested state regulatory commission.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-3143 Filed 2-6-01; 8:45 am]

BILLING CODE 6717-01-M